DEPARTMENT OF AGRICULTURE

Animal and Plant Health Inspection Service

9 CFR Part 93

[Docket No. 00-028-1]

Importation of Horses, Ruminants, Swine, and Dogs; Inspection and Treatment for Screwworm

AGENCY: Animal and Plant Health Inspection Service, USDA.

ACTION: Interim rule and request for comments.

SUMMARY: We are amending the animal import regulations to require horses, ruminants, and swine that are imported from regions of the world where screwworm is considered to exist to be inspected and treated, under certain conditions, for screwworm. We are also amending the regulations to require dogs that are imported from regions of the world where screwworm is considered to exist to be inspected and, if necessary, treated for screwworm. This action is necessary to prevent the introduction of screwworm into the United States.

DATES: This interim rule is effective November 13, 2000. We invite you to comment on this docket. We will consider all comments that we receive by January 12, 2001.

ADDRESSES: Please send your comment and three copies to: Docket No. 00-028-1, Regulatory Analysis and Development, PPD, APHIS, Suite 3C03, 4700 River Road, Unit 118, Riverdale, MD 20737-1238.

Please state that your comment refers to Docket No. 00-028-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Glen I. Garris, Supervisory Staff Officer, Regionalization Evaluation Services Staff, National Center for Import and Export, VS, APHIS, 4700 River Road Unit 39, Riverdale, MD 20737-1231; (301) 734-4356.

SUPPLEMENTARY INFORMATION:

Background

Screwworm is a pest native to tropical areas of South America, the Indian subcontinent, Southeast Asia, tropical and sub-Saharan Africa, and the Arabian peninsula that causes extensive damage to livestock and other warmblooded animals. The adult female screwworm typically lays her eggs in the open wounds of warmblooded host animals. Screwworm larvae hatch in as little as 12 hours and begin to feed on the raw flesh of the host animal; they are fully grown within 5 to 7 days after hatching. The fully grown larvae then drop from the host and tunnel into the soil, where they form protective cases to house themselves while they pupate. Adult screwworm flies emerge from these pupal cases and are ready to mate again within 3 to 5 days.

Screwworm was eradicated from the United States in 1966. However, in July of 1999, and again in February and March of 2000, screwworm larvae were found in horses that were imported into the United States from Venezuela and Argentina.

The regulations in 9 CFR part 93 (referred to below as the regulations) prohibit or restrict the importation of certain animals and birds into the United States to prevent the introduction of communicable diseases of livestock and poultry. Subparts C, D, E, and F of the regulations govern the importation of horses, ruminants, swine, and dogs, respectively.

We are amending the animal import regulations to require horses, ruminants, and swine that are imported from regions of the world where screwworm is considered to exist to be inspected and treated, under certain conditions, for screwworm. We are also amending the regulations to require dogs that are imported from regions of the world where screwworm is considered to exist to be inspected and, if necessary, treated for screwworm. We are taking this action in order to prevent the introduction of screwworm into the United States.

Screwworm is considered to exist in the following regions of the world: Angola, Argentina, Bahrain, Bangladesh, Benin, Bolivia, Botswana, Brazil, Brunei, Burkina Faso, Burundi, Cambodia, Cameroon, Central African Republic, China, Columbia, Congo, Dominican Republic, Ecuador, Equatorial Guinea, French Guiana, Gabon, Gambia, Ghana, Guinea, Guinea-Bissau, Guyana, Haiti, India, Indonesia, Iraq, Ivory Coast, Jamaica, Kenya, Kuwait, Laos, Lesotho, Liberia, Macau, Malawi, Malaysia, Mali, Mauritania, Mozambique, Myanmar, Namibia, Nigeria, Oman, Pacific Islands (Palau), Panama, Papua New Guinea, Paracel Islands, Paraguay, Peru, Philippines, Qatar, Rwanda, Saudi Arabia, Senegal, Sierra Leone, Singapore, South Africa, Spratly Islands, Sri Lanka, Surinam, Swaziland, Taiwan, Tanzania, Thailand, Togo, Trinidad and Tobago, Uganda, United Arab Emirates, Uruguay, Venezuela, Vietnam, Zaire, Zambia, and Zimbabwe. Screwworm is also considered to exist on Isla de Pascua (Easter Island), which is part of Chile.

As of the effective date of this rule, horses, ruminants, swine, and dogs may be imported into the United States from the regions where screwworm is considered to exist only if they are inspected and, if necessary, treated for screwworm according to the conditions outlined below for each type of animal.

Requirements for Horses

Prior to the effective date of this rule, the regulations did not contain any restrictions on the importation of horses that were specifically designed to protect against the introduction of screwworm into the United States. In this document, we are amending subpart C of the regulations to add the following requirements for imported horses from any region of the world where screwworm is considered to exist.

• A veterinarian must treat horses with ivermectin 3 to 5 days prior to the date of export to the United States. The horses must be treated according to the appropriate recommended dose prescribed on the product's label.

Research has shown that ivermectin is effective against the early stages of screwworm infestation that are difficult to observe during visual inspection of animals. The treatment must be administered within 3 to 5 days prior to export because ivermectin has been demonstrated to eliminate infestations of screwworm within 3 to 5 days after treatment. Treating horses with ivermectin 3 to 5 days prior to export reduces the risk of animals becoming infested with screwworm just prior to export.

• Horses must be examined for screwworm by a full-time salaried veterinary official of the exporting country within 24 hours prior to shipment to the United States. The official must fully examine the animals, paying particular attention to their external genitalia. If any animals are found to be infested with screwworm, they must be held in quarantine and treated until free from infestation.

This examination is necessary to identify outwardly visible signs of screwworm infestation. We are directing that officials pay particular attention to the external genitalia of horses because in both recent cases where screwworm infestations were found in imported horses, the infestations were located in the prepuce area of the penis of the horses. The Animal and Plant Health Inspection Service (APHIS) has gathered information from other countries confirming that screwworm infestations in horses are commonly found in the prepuce.

• At the time the horses are loaded onto a means of conveyance for export, a veterinarian must treat any visible wounds on the animals with a solution of coumaphos dust at a concentration of 5 percent active ingredient.

Treatment with coumaphos will help ensure that potential screwworm infestations in open wounds are eliminated prior to shipment to the United States. Coumaphos dust is an insecticide that is effective against screwworm and is the insecticide most commonly used in the International Screwworm Eradication Program, an APHIS program to prevent the introduction of screwworm into the United States by eradicating screwworm from Mexico and Central America.

• The horses must be accompanied to the United States by a certificate signed by a full-time salaried veterinary official of the exporting country. The certificate must state that the horses, including their external genitalia, have been thoroughly examined, that the animals have been treated with ivermectin, that any visible wounds on the animals have been treated with coumaphos, and that the animals appear to be free of screwworm.

This certification will help ensure that all preembarkation requirements have been met.

Horses imported from regions identified in this document as regions where screwworm is considered to exist are already required to be quarantined upon arrival in the United States for at least 3 days at an APHIS animal import center. Under this rule, horses from regions where screwworm is considered to exist must be quarantined, inspected, and, if necessary, treated upon arrival in the United States as follows:

• The horses must be quarantined upon arrival in the United States at an APHIS animal import center for at least 7 days.

• A veterinarian must examine the horses, including their external genitalia, for screwworm within 24 hours after their arrival at the APHIS animal import center in the United States.

If a horse arrives infested with screwworm despite preembarkation precautions, we must be sure the infestation is promptly detected. If screwworm infestations are promptly discovered and treated during quarantine, maturation of larvae can be prevented, thus reducing the possibility that larvae could drop into the soil and pupate. The cost of this inspection is covered by the user fees applicable to equines quarantined in APHIS animal import centers (see 9 CFR part 130, § 130.2).

• On day 7, prior to the horses' release, a veterinarian must examine the horses for screwworm at the expense of the owner or broker.¹ For this examination, the veterinarian must anesthetize the horses so that he or she can thoroughly examine the horses' external genitalia. If screwworms are found during this examination, the horses must be held in quarantine and treated until free.

¹ The daily costs of APHIS animal quarantine services are provided in § 130.2(a). The cost of paying for this final examination of an anesthetized horse is not included in the daily user fees, and importers are responsible for the cost of this examination, in addition to daily quarantine user fees.

A 7-day quarantine will provide time for any previously undetected screwworm that may be present to grow large enough to be found. Examination on the seventh day will ensure that any screwworm infestations are detected and eliminated before the animal is allowed to leave quarantine.

Requirements for Ruminants and Swine

Prior to the effective date of this rule, the regulations did not contain any restrictions on the importation of ruminants and swine that were specifically designed to protect against the introduction of screwworm into the United States. In this document, we are amending subparts D and E of the regulations to add the following requirements for imported ruminants and swine from any region of the world where screwworm is considered to exist.

• A veterinarian must treat ruminants and swine with ivermectin 3 to 5 days prior to the date of export to the United States. The ruminants and swine must be treated according to the appropriate recommended dose prescribed on the product's label.

Research has shown that ivermectin is effective against the early stages of screwworm infestation that are difficult to observe during visual inspection of animals. The treatment must be administered within 3 to 5 days prior to export because ivermectin has been demonstrated to eliminate infestations of screwworm within 3 to 5 days after treatment. Treating ruminants and swine with ivermectin 3 to 5 days prior to export reduces the risk of animals becoming infested with screwworm just prior to export.

• Ruminants and swine must be examined for screwworm by a full-time salaried veterinary official of the exporting country within 24 hours prior to shipment to the United States. The official must fully examine the animals. If any animals are found to be infested with screwworm, they must be held in quarantine and treated until free from infestation.

This examination is necessary to identify outwardly visible signs of screwworm infestation.

• At the time the ruminants or swine are loaded onto a means of conveyance for export, a veterinarian must treat any visible wounds on the animals with a solution of coumaphos dust at a concentration of 5 percent active ingredient.

Treatment with coumaphos will help ensure that potential screwworm infestations in open wounds are eliminated prior to shipment to the United States. Coumaphos dust is an insecticide that is effective against screwworm and is the insecticide most commonly used in the International Screwworm Eradication Program, an APHIS program to prevent the introduction of screwworm into the United States by eradicating screwworm from Mexico and Central America.

• The ruminants and swine must be accompanied to the United States by a certificate signed by a full-time salaried veterinary official of the exporting country. The certificate must state that the ruminants or swine have been thoroughly examined, that the animals have been treated with ivermectin, that any visible wounds on the animals have been treated with coumaphos, and that the animals appear to be free of screwworm.

This certification will help ensure that all preembarkation requirements have been met.

Ruminants and swine that are imported from all countries and areas identified in this rule as regions where screwworm is considered to exist are already required under §§ 93.411 and 93.510 of the regulations to be quarantined for 30 and 15 days, respectively, during which time they are observed for signs of disease or infestation with animal pests. If screwworm is found during quarantine, the infested animal is held in quarantine and treated until free of infestation.

We believe the requirements described above, in combination with existing quarantine requirements, will prevent the introduction of screwworm into the United States by imported horses, ruminants, or swine.

Dogs

Dogs to be used in the handling of livestock may be imported into the United States in accordance with the regulations at subpart F. The regulations provide that dogs from any part of the world except Canada, Mexico, and regions of Central America and the West Indies that are imported to be used in the handling of livestock must be quarantined and inspected at the port of entry in the United States for a sufficient time to determine if the dogs are infested with Taenia coenurus (tapeworm). If dogs are found to be infested with tapeworm, they are required to be treated until free from the infestation.

Prior to the effective date of this rule, APHIS did not regulate the importation of dogs other than those used to handle livestock because we did not believe such imported dogs presented a significant risk of disseminating pests or diseases to livestock. However, since screwworms are strong fliers and can move considerable distances from their original point of infestation, we believe it is necessary to require all dogs intended for importation into the United States to be inspected for screwworm by a veterinarian and, if infested, to be held in quarantine and treated until free.

We are, therefore, amending subpart F to provide that all dogs from any region of the world where screwworm is considered to exist may be imported into the United States only if accompanied by a certificate signed by a full-time salaried veterinary official of the exporting region that states that the dog(s) have been inspected for screwworm within 5 days preceding shipment to the United States and that the dog(s) were either found free of screwworm, or were found to be infested with screwworm and were held in quarantine and treated until free prior to leaving the region of export. We believe these requirements are necessary to prevent screwworm from being introduced into the United States. We are also making several editorial changes to the requirements for dogs used for handling livestock to make the requirements clearer.

Emergency Action

The Administrator of the Animal and Plant Health Inspection Service has determined that an emergency exists that warrants publication of this interim rule without prior opportunity for public comment. Immediate action is necessary to prevent the introduction of screwworm into the United States.

Because prior notice and other public procedures with respect to this action are impracticable and contrary to the public interest under these conditions, we find good cause under 5 U.S.C. 553 to make this action effective less than 30 days after publication. We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. The rule has been determined to be not significant for the purposes of Executive Order 12866 and, therefore, has not been reviewed by the Office of Management and Budget.

Prior to the effective date of this rule, APHIS regulations contained no provisions specifically designed to protect against the introduction of screwworm by animals imported into the United States. In July 1999, and again in February and March 2000, screwworm larvae were found in horses imported into the United States. This interim rule sets forth preembarkation requirements for ruminants, swine, and dogs and preembarkation and postarrival requirements for horses imported from any region of the world where screwworm is considered to exist in order to prevent the introduction of screwworm into the United States.

The screwworm is a parasite that enters open wounds and feeds on the flesh of livestock and other warmblooded animals, including humans. Left untreated, screwworm-infested wounds lead to death. Multiple infestations can kill a grown steer in 5 to 7 days.

As early as 1825, western States reported serious screwworm problems, and infestations spread to the southeastern United States by the 1930's. The U.S. Department of Agriculture began an eradication program in the 1950's using sterilized flies, and self-sustaining screwworm populations were eliminated from the United States by 1966. International eradication efforts have proceeded southward during the 1990's, with Mexico officially declared free of screwworm in 1991, and the countries of Belize, Costa Rica, El Salvador, Guatemala, Honduras, and Nicaragua thereafter.

Regions where screwworm is considered to exist include Angola, Argentina, Bahrain, Bangladesh, Benin, Bolivia, Botswana, Brazil, Brunei, Burkina Faso, Burundi, Cambodia, Cameroon, Central African Republic, China, Colombia, Congo, Dominican Republic, Ecuador, Equatorial Guinea, French Guiana, Gabon, Gambia, Ghana, Guinea, Guinea-Bissau, Guyana, Haiti, India, Indonesia, Iraq, Ivory Coast, Jamaica, Kenya, Kuwait, Laos, Lesotho, Liberia, Macau, Malawi, Malaysia, Mali, Mauritania, Mozambique, Myanmar, Namibia, Nigeria, Oman, Pacific Islands (Palau), Panama, Papua New Guinea, Paracel Islands, Paraguay, Peru, Philippines, Qatar, Rwanda, Saudi Arabia, Senegal, Sierra Leone, Singapore, South Africa, Spratly Islands, Sri Lanka, Surinam, Swaziland, Taiwan, Tanzania, Thailand, Togo, Trinidad and Tobago, Uganda, United Arab Emirates, Uruguay, Venezuela, Vietnam, Zaire, Zambia, and Zimbabwe. Screwworm is also considered to exist on Easter Island, which is part of Chile. However, given that few, if any, animals are imported by the United States from Easter Island, Chile is not included in this analysis.

Inspection and testing protocols for the importation of horses, ruminants, swine, and dogs from regions where screwworm is considered to exist were described earlier in this document. Where possible, costs associated with the protocols are approximated, to evaluate whether proposed regulations are likely to have a significant economic effect on a substantial number of small entities. This likelihood is examined for each type of animal, based on inspection, treatment, and certification costs, and recognizing that some measures are already required because of other disease risks. Estimates of the additional costs per animal to importers that could result from implementation of this rule are then placed in perspective by comparing the magnitude of the additional costs to the average value of the animals being imported, and by noting the proportion of U.S. imports of these animals that come from the infested countries.

Horses

As explained earlier in this document, this interim rule requires horses that are imported from regions of the world where screwworm is considered to exist to meet the following conditions:

• A veterinarian must treat horses with ivermectin 3 to 5 days prior to the date of export to the United States;

• Horses must be examined for screwworm and found free by a full-time salaried veterinary official of the exporting country within 24 hours prior to shipment to the United States;

• At the time of loading onto a means of conveyance for export, a veterinarian must treat any visible wounds on horses with a solution of coumaphos dust at a concentration of 5 percent active ingredient;

• Horses must be accompanied to the United States by a certificate signed by a full-time, salaried veterinary official of the exporting country. The certificate must state that the animals, including their external genitalia, have been thoroughly examined and found free of screwworm, and that the animals have been treated with ivermectin, and, if necessary, coumaphos dust;

• Horses must be quarantined upon arrival in the United States at an APHIS animal import center for at least 7 days.

• A veterinarian must examine the horses, including their external genitalia, for screwworm within 24 hours after their arrival at the APHIS animal import center; and

• On day 7, prior to the horses' release, a veterinarian must examine the horses for screwworm at the expense of the owner or broker. For this examination, horses must be anesthetized so that their external genitalia can be thoroughly examined.

Most countries in the Western hemisphere that are infested with screwworm are also affected by Venezuelan equine encephalomyelitis (VEE), and several countries in the Eastern Hemisphere that are infested with screwworm are also affected by African horse sickness (AHS). Under § 93.308(a)(1) and (2), horses imported from VEE- or AHS-affected regions are subject to 7- and 60-day quarantines, respectively, upon arrival in the United States. The 7-day screwworm quarantine will be concurrent with required quarantines for VEE and AHS. Importers of horses from screwworm infested and VEE- or AHS-affected areas will bear only the additional costs associated with preembarkation treatment and inspection, treatment of wounds during loading, inspection upon arrival at the port of entry, and the final examination of anesthetized horses.

Preembarkation inspection and treatment costs will vary from region to region. The requirement that the examination will need to be performed by a full-time salaried veterinary official of the exporting country would suggest that some regions may set fees. We do not have information on these costs, but for the purposes of a generalized analysis, we assumed that pre-embarkation inspections, treatments, and certification would total between $50 and $100 per animal. We assumed that examination upon arrival in the United States and the final inspection of the anesthetized horse at the end of the quarantine period would cost between $75 and $125 per horse, for a total cost ranging from $125 to $225 per horse.

Regions with screwworm that are not affected by VEE or AHS are Argentina, Bangladesh, Brunei, Cambodia, China, India, Indonesia, Iraq, Laos, Macau, Malaysia, Myanmar, Pacific Islands (Palau), Papua New Guinea, Paracel Islands, Philippines, Qatar, Singapore, Spratly Islands, Sri Lanka, Taiwan, Thailand, United Arab Emirates, and Vietnam. Horses imported from these regions are already subject to a minimum quarantine of 3 days upon arrival in the United States. Importers of horses from these regions will bear preembarkation inspection and treatment costs as discussed above, as well as the cost of 4 additional days of quarantine.

Argentina is the only significant source of horse imports for which the additional quarantine days will be applicable. China, Philippines, Taiwan, and United Arab Emirates also exported horses to the United States during the period 1995-1998, but collectively they exported only 5 horses in 1995, 9 in 1996, 14 in 1997, and 13 in 1998.

The cost of quarantining a horse for 3 days is $448.50. The cost of a 7-day quarantine is $881.50. Thus, importers of horses from Argentina (and countries such as China, Philippines, Qatar, Taiwan, and United Arab Emirates) will bear an additional quarantine cost of $433 per horse. Given that importers will also bear preembarkation and postarrival costs of $125 to $225 per horse, the total additional cost to importers will likely be $558 to $658 per horse. Importers may also encounter other costs less easily quantified, such as greater difficulty in the scheduling of shipments (space is easier to reserve for a 3-day quarantine than for a 7-day quarantine) given the demand for use of the animal import center.

These costs are small when compared to the value of the horses imported. For example, the average value of purebred horses imported between 1995 and 1998 from screwworm infested regions in the Western Hemisphere, except Argentina, was $6,370. The assumed additional costs ($125 to $225) to importers of purebred horses from these countries represent 2 to 3.5 percent of the average value of imported horses. During this same period, the average value of purebred horses imported from Argentina was $9,280. The assumed costs ($558 to $658) to importers of purebred horses from Argentina represent 6 to 7 percent of the average value of the horses.

The potential effect of these costs on U.S. entities can also be assessed by taking into account the share of U.S. horse imports supplied by the screwworm infested regions. In 1995-1998, the infested regions, excluding Argentina, supplied about 12 percent of all purebred horses imported by the United States (an average of 196 horses per year); about 21 percent (an average of 347 horses per year) of purebred imports came from Argentina.²

² For nonpurebred horses, the screwworm-affected countries supply a much smaller share of U.S. imports. During 1995-1998, only 0.21 percent of nonpurebred horse imports (an average of 73 horses per year) were supplied by the affected countries, excluding Argentina; only 0.36 percent of of nonpurebred horse imports (an average of 125 horses per year) came from Argentina. We excluded from this analysis nonpurebred horse imports from the affected countries since they represent such a small fraction—about one-half of one percent—of all such imports by the United States.

Importers that may be affected by this rule include U.S. horse farms and operators of racing stables. Whether potentially affected operations are considered small entities depends on their annual gross receipts. Horse farms, classified under Standard Industrial Classification (SIC) industry number 0272 (Horses and Other Equines), are considered small if their annual gross receipts are $0.5 million or less. Operators of racing stables are included within SIC industry number 7948 (Racing, Including Track Operations), for which the small-entity criterion is annual gross receipts of $5 million or less.

It is reasonable to assume that at least some of the horse farms and other firms that will be affected by this rule change are small entities, although their number is not known. However, since estimated screwworm-prevention costs are a small fraction of the average value of the horses imported, and since two-thirds of purebred horse imports do not come from screwworm-affected regions, we do not expect the economic effects of this rule to be significant.

Ruminants and Swine

Protocol requirements for ruminants and swine are the same as for horses, other than for the 7-day quarantine and final examination of the anesthetized animal. Ruminants and swine are generally not imported from screwworm infested countries, for both economic and animal health reasons. The occurrence of diseases such as foot-and-mouth disease and hog cholera essentially preclude ruminant and swine imports from most screwworm-affected regions. Of the screwworm infested regions that are considered free of foot-and-mouth disease (Haiti, Jamaica, Panama, South Africa,³ and Trinidad and Tobago), only South Africa has a history of ruminant exports to the United States.⁴

³ South Africa is considered free of foot-and-mouth disease except the foot-and-mouth disease controlled area (which extends from the Republic of South Africa's border with Mozambique approximately 30 to 90 kilometers into the Republic of South Africa to incude Kruger National Park and surveillance and control zones around the park, and elsewhere extends, from east to west, approximately 10 to 20 kilometers into the Republic of South Africa along its borders with Mozambique, Swaziland, Zimbabwe, Botswana, and the southeast part of the border with Namibia).

⁴ Canada is the main supplier of cattle to the United States, and Mexico is second. Together, they provide 99 percent of U.S. cattle imports; very small quantities are imported from other countries, such as Japan and Germany. Nearly all imported sheep are from Canada, with small percentages coming from Mexico, New Zealand, and Australia. Canada and New Zealand are the major suppliers of goats, with occasional shipments from Mexico and Australia. Nearly all imported swine come from Canada, with lesser numbers supplied by Europe, New Zealand and Australia.

No cattle or sheep were exported from South Africa to the United States in the past 5 years, but 412 goats were exported to the United States in 1995. If such shipments were to recur, the additional costs borne by the goat importers would be those associated with preembarkation inspection, treatment, and certification, and treatment of wounds during loading. The value of goats imported from South Africa in 1995 was about $660 each. Assumed preembarkation inspection, treatment, and certification costs of about $30 per goat represent less than 5 percent of this average value.

Potentially affected entities would include U.S. goat producers, the majority of which are small entities (as classified under SIC industry number 0214, and for which the small-entity criterion is annual gross receipts of $0.5 million or less). We expect that any future goat imports from South Africa would represent a small fraction of the total U.S. imports of goats. As with horses, we do not expect that this rule will have a significant economic effect on a substantial number of small entities.

Dogs

Prior to the effective date of this rule, we regulated the importation of dogs only if they were intended to be used in the handling of livestock. The screwworm threat requires that all dogs imported from the infested countries be inspected and, if necessary, treated before importation. A certificate signed by a full-time salaried veterinary official of the dog's region of origin must state that the dog has been inspected for screwworm within 5 days prior to shipment to the United States and that it is either free from infestation, or was found to be infested with screwworm and treated until free prior to leaving the region of origin.

The cost to dog importers for preembarkation inspection, treatment (if necessary), and certification is not known. It may be similar to that assumed for horses: $50 to $100 per animal.

The quantity of dogs imported yearly from the affected regions is not known, but we believe the number is small. Many of these dogs are probably owned as pets; for their owners, any economic effects of this rule are not within the scope of the Regulatory Flexibility Act. Firms importing dogs from these regions for sale, whether to be used in handling livestock or otherwise, are classified under SIC industry number 5199 (Miscellaneous Nondurable Goods), for which the small-entity criterion is 100 employees or fewer.

Firms that import dogs from the infested regions may well be small entities. However, it is unlikely that the preembarkation screwworm requirements would represent significant costs when compared to the value of an imported dog; transport expenses alone would imply that the market value of such a dog would be relatively high.

Summary

This rule sets forth preembarkation and postarrival requirements for horses, ruminants, swine, and dogs imported from screwworm infested regions. Protocols for testing and treatment will reduce the risk that screwworm could be introduced into the United States. As a group, screwworm infested regions are not a major source of U.S. horse imports, and, with apparently only one exception in the past 5 years, not a source at all of ruminants or swine. Also, few if any dogs are presumed to be imported from these regions. In those instances in which imports do take place, we do not expect costs associated with the protocols to be large when compared to the value of the animals. Small entities may be affected, but their number will not be substantial nor will the economic effects be significant.

Under these circumstances, the Administrator of the Animal and Plant Health Inspection Service has determined that this action will not have a significant economic impact on a substantial number of small entities.

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

In accordance with section 3507(j) of the Paperwork Reduction Act of 1995 (44 U.S.C. 3501 et seq.), the information collection and recordkeeping requirements included in this interim rule have been submitted for emergency approval to the Office of Management and Budget (OMB). OMB has assigned control number 0579-0165 to the information collection and recordkeeping requirements.

We plan to request continuation of that approval for 3 years. Please send written comments on the 3-year approval request to the following addresses: (1) Docket No. 00-028-1, Regulatory Analysis and Development, PPD, APHIS, suite 3C03, 4700 River Road Unit 118, Riverdale, MD 20737-1238, and (2) Clearance Officer, OCIO, USDA, room 404-W, 14th Street and Independence Avenue, SW., Washington, DC 20250. Please state that your comments refer to Docket No. 00-028-1 and send your comments within 60 days of publication of this rule.

This interim rule will amend the animal import regulations to require horses, ruminants, and swine that are imported from regions of the world where screwworm is considered to exist to be inspected and treated, under certain conditions, for screwworm. This rule will also amend the regulations to require dogs that are imported from regions of the world where screwworm is considered to exist to be inspected and, if necessary, treated for screwworm.

Implementing this rule will necessitate the completion of a foreign animal health certificate for horses, ruminants, swine, and dogs that are imported from regions where screwworm is considered to exist.

We are soliciting comments from the public concerning our information collection and recordkeeping requirements. These comments will help us:

(1) Evaluate whether the information collection is necessary for the proper performance of our agency's functions, including whether the information will have practical utility;

(2) Evaluate the accuracy of our estimate of the burden of the information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 15 minutes per response.

Respondents: Full-time salaried veterinary officials of exporting regions.

Estimated annual number of respondents: 36.

Estimated annual number of responses per respondent: 3.78.

Estimated annual number of responses: 136.

Estimated total annual burden on respondents: 34 hours.

Copies of this information collection can be obtained from: Ms. Laura Cahall, APHIS' Information Collection Coordinator, (301) 734-5360.

List of Subjects in 9 CFR Part 93

Animal diseases, Imports, Livestock, Poultry and poultry products, Quarantine, Reporting and recordkeeping requirements.

Accordingly, we are amending 9 CFR part 93 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 is revised to read as follows:

Authority: 7 U.S.C. 1622; 19 U.S.C. 1306; 21 U.S.C. 102-105, 111, 114a, 134a, 134b, 134c, 134d, 134f, 136, and 136a; 31 U.S.C. 9701; 7 CFR 2.22, 2.80, and 371.4.

2. In § 93.301, a new paragraph (j) is added to read as follows:

§ 93.301 General prohibitions; exceptions.

* * * * *

(j) Examination and treatment for screwworm. Horses from Angola, Argentina, Bahrain, Bangladesh, Benin, Bolivia, Botswana, Brazil, Brunei, Burkina Faso, Burundi, Cambodia, Cameroon, Central African Republic, China, Columbia, Congo, Dominican Republic, Ecuador, Equatorial Guinea, French Guiana, Gabon, Gambia, Ghana, Guinea, Guinea-Bissau, Guyana, Haiti, India, Indonesia, Iraq, Isla de Pascua (Easter Island, part of Chile), Ivory Coast, Jamaica, Kenya, Kuwait, Laos, Lesotho, Liberia, Macau, Malawi, Malaysia, Mali, Mauritania, Mozambique, Myanmar, Namibia, Nigeria, Oman, Pacific Islands (Palau), Panama, Papua New Guinea, Paracel Islands, Paraguay, Peru, Philippines, Qatar, Rwanda, Saudi Arabia, Senegal, Sierra Leone, Singapore, South Africa, Spratly Islands, Sri Lanka, Surinam, Swaziland, Taiwan, Tanzania, Thailand, Togo, Trinidad and Tobago, Uganda, United Arab Emirates, Uruguay, Venezuela, Vietnam, Zaire, Zambia, Zimbabwe, or any other region of the world where screwworm is considered to exist may be imported into the United States only if they meet the following requirements and all other applicable requirements of this part:

(1) A veterinarian must treat horses with ivermectin 3 to 5 days prior to the date of export to the United States according to the recommended dose prescribed on the product's label.

(2) Horses must be examined for screwworm by a full-time salaried veterinary official of the exporting country within 24 hours prior to shipment to the United States. The official must fully examine the horses, including their external genitalia. If horses are found to be infested with screwworm, they must be treated until free from infestation.

(3) At the time horses are loaded onto a means of conveyance for export, a veterinarian must treat any visible wounds on the animals with a solution of coumaphos dust at a concentration of 5 percent active ingredient.

(4) Horses must be accompanied to the United States by a certificate signed by a full-time salaried veterinary official of the exporting country. The certificate must state that the horses, including their external genitalia, have been thoroughly examined and found free of screwworm and that the horses have been treated in accordance with paragraphs (j)(1) and (j)(3) of this section.

(5) Horses must be quarantined upon arrival in the United States at an APHIS animal import center for at least 7 days.

(6) Horses must be examined for screwworm by a veterinarian within 24 hours after arrival at an APHIS animal import center in the United States. The examining veterinarian must examine horses, including their external genitalia, to determine whether the horse is infested with screwworm.

(7) Horses must be held at the animal import center for a minimum of 7 days. On day 7, prior to the horses' release, the horses must be examined for screwworm by a veterinarian at the expense of the owner or broker. For this examination, the horses must be anesthetized so that the external genitalia of the horses can be thoroughly examined. If screwworm are found during this examination, the horses must be held in quarantine and treated until free of infestation.

* * * * *

3. Section 93.405 is amended as follows.

a. In paragraph (a)(1), by removing the word “and” at the end of the paragraph.

b. By revising paragraph (a)(2).

c. By adding a new paragraph (a)(3).

§ 93.405 Certificates for ruminants.

(a) * * *

(2) That the ruminants are not in quarantine in the region of origin; and

(3) If the ruminants are from Angola, Argentina, Bahrain, Bangladesh, Benin, Bolivia, Botswana, Brazil, Brunei, Burkina Faso, Burundi, Cambodia, Cameroon, Central African Republic, China, Columbia, Congo, Dominican Republic, Ecuador, Equatorial Guinea, French Guiana, Gabon, Gambia, Ghana, Guinea, Guinea-Bissau, Guyana, Haiti, India, Indonesia, Iraq, Isla de Pascua (Easter Island, part of Chile), Ivory Coast, Jamaica, Kenya, Kuwait, Laos, Lesotho, Liberia, Macau, Malawi, Malaysia, Mali, Mauritania, Mozambique, Myanmar, Namibia, Nigeria, Oman, Pacific Islands (Palau), Panama, Papua New Guinea, Paracel Islands, Paraguay, Peru, Philippines, Qatar, Rwanda, Saudi Arabia, Senegal, Sierra Leone, Singapore, South Africa, Spratly Islands, Sri Lanka, Surinam, Swaziland, Taiwan, Tanzania, Thailand, Togo, Trinidad and Tobago, Uganda, United Arab Emirates, Uruguay, Venezuela, Vietnam, Zaire, Zambia, Zimbabwe, or any other region of the world where screwworm is considered to exist, the ruminants may be imported into the United States only if they meet the following requirements and all other applicable requirements of this part:

(i) A veterinarian must treat the ruminants with ivermectin 3 to 5 days prior to the date of export to the United States according to the recommended dose prescribed on the product's label.

(ii) The ruminants must be fully examined for screwworm by a full-time salaried veterinary official of the exporting country within 24 hours prior to shipment to the United States. If ruminants are found to be infested with screwworm, they must be treated until free from infestation.

(iii) At the time ruminants are loaded onto a means of conveyance for export, a veterinarian must treat any visible wounds on the animals with a solution of coumaphos dust at a concentration of 5 percent active ingredient.

(iv) The ruminants must be accompanied to the United States by a certificate signed by a full-time salaried veterinary official of the exporting country. The certificate must state that the ruminants have been thoroughly examined and found free of screwworm and that the ruminants have been treated in accordance with paragraphs (a)(3)(i) and (a)(3)(iii) of this section.

* * * * *

4. Section 93.505 is amended by redesignating paragraph (b) as paragraph (c) and by adding a new paragraph (b) to read as follows.

§ 93.505 Certificate for swine.

* * * * *

(b) Swine from Angola, Argentina, Bahrain, Bangladesh, Benin, Bolivia, Botswana, Brazil, Brunei, Burkina Faso, Burundi, Cambodia, Cameroon, Central African Republic, China, Columbia, Congo, Dominican Republic, Ecuador, Equatorial Guinea, French Guiana, Gabon, Gambia, Ghana, Guinea, Guinea-Bissau, Guyana, Haiti, India, Indonesia, Iraq, Isla de Pascua (Easter Island, part of Chile), Ivory Coast, Jamaica, Kenya, Kuwait, Laos, Lesotho, Liberia, Macau, Malawi, Malaysia, Mali, Mauritania, Mozambique, Myanmar, Namibia, Nigeria, Oman, Pacific Islands (Palau), Panama, Papua New Guinea, Paracel Islands, Paraguay, Peru, Philippines, Qatar, Rwanda, Saudi Arabia, Senegal, Sierra Leone, Singapore, South Africa, Spratly Islands, Sri Lanka, Surinam, Swaziland, Taiwan, Tanzania, Thailand, Togo, Trinidad and Tobago, Uganda, United Arab Emirates, Uruguay, Venezuela, Vietnam, Zaire, Zambia, Zimbabwe, or any other region of the world where screwworm is considered to exist may only be imported into the United States if they meet the following requirements and all other applicable requirements of this part:

(1) A veterinarian must treat the swine with ivermectin 3 to 5 days prior to the date of export to the United States according to the recommended dose prescribed on the product's label.

(2) The swine must be fully examined for screwworm by a full-time salaried veterinary official of the exporting country within 24 hours prior to shipment to the United States. If swine are found to be infested with screwworm, they must be treated until free from infestation.

(3) At the time swine are loaded onto a means of conveyance for export, a veterinarian must treat any visible wounds on the animals with a solution of coumaphos dust at a concentration of 5 percent active ingredient.

(4) The swine must be accompanied to the United States by a certificate signed by a full-time salaried veterinary official of the exporting country. The certificate must state that the swine have been thoroughly examined and found free of screwworm and that the swine have been treated in accordance with paragraphs (b)(1) and (b)(3) of this section.

* * * * *

5. Section 93.600 is revised to read as follows:

§ 93.600 Importation of dogs.

(a) All dogs. Dogs from Angola, Argentina, Bahrain, Bangladesh, Benin, Bolivia, Botswana, Brazil, Brunei, Burkina Faso, Burundi, Cambodia, Cameroon, Central African Republic, China, Columbia, Congo, Dominican Republic, Ecuador, Equatorial Guinea, French Guiana, Gabon, Gambia, Ghana, Guinea, Guinea-Bissau, Guyana, Haiti, India, Indonesia, Iraq, Isla de Pascua (Easter Island, part of Chile), Ivory Coast, Jamaica, Kenya, Kuwait, Laos, Lesotho, Liberia, Macau, Malawi, Malaysia, Mali, Mauritania, Mozambique, Myanmar, Namibia, Nigeria, Oman, Pacific Islands (Palau), Panama, Papua New Guinea, Paracel Islands, Paraguay, Peru, Philippines, Qatar, Rwanda, Saudi Arabia, Senegal, Sierra Leone, Singapore, South Africa, Spratly Islands, Sri Lanka, Surinam, Swaziland, Taiwan, Tanzania, Thailand, Togo, Trinidad and Tobago, Uganda, United Arab Emirates, Uruguay, Venezuela, Vietnam, Zaire, Zambia, Zimbabwe, or any other region of the world where screwworm is considered to exist may only be imported into the United States if they meet the following requirements and all other applicable requirements of this part:

(1) Dogs must be accompanied by a certificate signed by a full-time salaried veterinary official of the region of origin stating that the dog has been inspected for screwworm within 5 days preceding its shipment to the United States.

(2) The certificate must state that the dog is either free from screwworm or was found to be infested with screwworm and was held in quarantine and treated until free from screwworm prior to leaving the region of origin.

(b) Dogs for handling livestock. Collie, Shepherd, and other dogs that are imported from any part of the world except Canada, Mexico, and regions of Central America and the West Indies and that are to be used in the handling of sheep or other livestock must be inspected and quarantined at the port of entry for a sufficient time to determine their freedom from tapeworm (Taenia spp.). If found to be infested with tapeworm, dogs must be treated under the supervision of an inspector at the port of entry until they are free from infestation.

Done in Washington, DC, this 3rd day of November 2000 .
Bobby R. Acord,
Acting Administrator, Animal and Plant Health Inspection Service.

[FR Doc. 00-28974 Filed 11-9-00; 8:45 am]

BILLING CODE 3410-34-U